NUCLEAR REGULATORY COMMISSION

[NRC-2008-0644]

Notice of Issuance of Regulatory Guide

AGENCY: Nuclear Regulatory Commission.

ACTION: Notice of Issuance and Availability of Regulatory Guide (RG) 1.126, Revision 2, “An Acceptable Model and Related Statistical Methods for the Analysis of Fuel Densification.”

FOR FURTHER INFORMATION CONTACT: John C. Voglewede, U.S. Nuclear Regulatory Commission, Washington, DC 20555-0001, telephone (301) 251-7555 or e-mail John.Voglewede@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG 1.126 was issued with a temporary identification as Draft Regulatory Guide, DG-1189. This guide describes an analytical model and related assumptions and procedures that the staff of the NRC considers acceptable for predicting the effects of fuel densification in light-water-cooled nuclear power reactors. To meet these objectives, the guide describes statistical methods related to product sampling that will ensure that this and other approved analytical models will adequately describe the effects of densification for each initial core and reload fuel quantity produced.

II. Further Information

In December 2008, DG-1189 was published with a public comment period of 60 days from the issuance of the guide. No formal comments were received and the public comment period closed on February 9, 2009. Electronic copies of RG 1.126 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 22nd day of March 2010.
For the Nuclear Regulatory Commission.
Andrea D. Valentin,
Chief, Regulatory Guide Development Branch, Division of Engineering, Office of Nuclear Regulatory Research.

[FR Doc. 2010-7226 Filed 3-30-10; 8:45 am]

BILLING CODE 7590-01-P